DEPARTMENT OF ENERGY

Federal Energy Regulatory Commission

Notice Soliciting Scoping Comments

July 14, 2005.

Take notice that the following hydroelectric application has been filed with the Commission and is available for public inspection.

a. Type of Application: New major license.

b. Project No.: P-7758-004.

c. Date Filed: February 5, 2005.

d. Applicant: Holyoke Gas & Electric Department.

e. Name of Project: Holyoke No. 4 Hydroelectric Project.

f. Location: On the Holyoke Canal System on the Connecticut River in Hampden County, Massachusetts.

g. Filed Pursuant to: Federal Power Act 16 U.S.C. 791(a)-825(r).

h. Applicant Contact: Mr. Paul Ducheney, Superintendent-Hydro, Holyoke Gas & Electric Department, One Canal Street, Holyoke, MA 01040, (413) 536-9340 or ducheney@hged.com.

i. FERC Contact: Jack Hannula, (202) 502-8917, john.hannula@ferc.gov.

j. Deadline for Filing Scoping Comments: August 19, 2005.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The project is located on the Holyoke Canal System on the Connecticut River in Hampden County, Massachusetts.¹ The Holyoke Canal System consists of three levels, and the project facilities are located between the first and second canal level. The project is one of nine FERC-licensed projects on the Holyoke Canal System. The Holyoke No. 4 Hydro Project has an installed generating capacity of 750 kilowatts (kW), and generates about 3,148,000 kilowatt-hours (kWh) of energy annually. Flows into the Canal System are regulated by HG&E through operation of the Holyoke Project No. 2004 according to the Comprehensive Canal Operations Plan (CCOP) and the Comprehensive Operations and Flow Plan (COFP).² The project does not occupy any Federal lands.

¹ The Holyoke Canal System is licensed under the Holyoke Project No. 2004. 88 FERC ¶ 61,186 (1999).

² The CCOP and COEP are part of a Settlement Agreement (filed with the Commission on March 12, 2004) as part of the licensing of the Holyoke Project No. 2004. These plans address canal flows, water quality, fish, and other habitat species.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. You may also register online at http://www.ferc.gov.esubscribenow.htm to be notified via e-mail of new filings and issuances related to this or other pending projects. For assistance, contact FERC Online Support.

o. Scoping Process:

The Commission staff intends to prepare an Environmental Assessment (EA) for the Holyoke No. 4 Hydroelectric Project in accordance with the National Environmental Policy Act. The EA will consider both site-specific and cumulative environmental impacts and reasonable alternatives to the proposed action.

Commission staff does not propose to conduct any on-site scoping meetings at this time. Instead, we will solicit comments, recommendations, information, and alternatives in the Scoping Document (SD).

Copies of the SD outlining the subject areas to be addressed in the EA were distributed to the parties on the Commission's mailing list. Copies of the SD may be viewed on the Web at http://www.ferc.gov using the “FERRIS” link. Enter the docket number excluding the last three digits in the docket number field to access the document. For assistance, call 1-866-208-3676 or for TTY, (202) 502-8659.

Linda Mitry,
Deputy Secretary.

[FR Doc. E5-3880 Filed 7-20-05; 8:45 am]

BILLING CODE 6717-01-P